NUCLEAR REGULATORY COMMISSION

[NRC-2014-0178]

Standard Review Plan for Conventional Uranium Mills and Heap Leach Facilities

AGENCY: Nuclear Regulatory Commission.

ACTION: Draft NUREG; reopening of public comment period.

SUMMARY: On December 18, 2014, the U.S. Nuclear Regulatory Commission (NRC) published a request for public comment on draft NUREG-2126, “Standard Review Plan for Conventional Uranium Mills and Heap Leach Facilities.” The public comment period closed on March 18, 2015. The NRC has decided to reopen the public comment period on this document until June 18, 2015, to allow more time for members of the public to develop and submit their comments.

DATES: The comment period for draft NUREG-2126, “Standard Review Plan for Conventional Uranium Mills and Heap Leach Facilities,” published on December 18, 2014 (79 FR 75597), has been reopened. Comments should be filed no later than June 18, 2015. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2014-0178. Address questions about NRC dockets to Carol Gallagher; telephone: 301-415-3463; email: Carol.Gallagher@nrc.gov. For technical questions, contact the individual listed in the FOR FURTHER INFORMATION CONTACT section of this document.

• Mail comments to: Cindy Bladey, Chief, Rules, Announcements, and Directives Branch (RADB), Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Douglas T. Mandeville, Office of Nuclear Material Safety and Safeguards, U.S. Nuclear Regulatory Commission, Washington, DC 20555-0001; telephone: 301-415-0724, email: Douglas.Mandeville@nrc.gov.

SUPPLEMENTARY INFORMATION:

I. Obtaining Information and Submitting Comments

A. Obtaining Information

Please refer to Docket ID NRC-2014-0178 when contacting the NRC about the availability of information for this action. You may obtain publicly-available information related to this action by any of the following methods:

• Federal rulemaking Web site: Go to http://www.regulations.gov and search for Docket ID NRC-2014-0178.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft NUREG-2126, “Standard Review Plan for Conventional Uranium Mills and Heap Leach Facilities,” is available in ADAMS under Accession No. ML14325A634.

• NRC's PDR: You may examine and purchase copies of public documents at the NRC's PDR, Room O1-F21, One White Flint North, 11555 Rockville Pike, Rockville, Maryland 20852.

B. Submitting Comments

Please include Docket ID NRC-2014-0178 in the subject line of your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 18, 2014, the NRC published a request for public comment on draft NUREG-2126, “Standard Review Plan for Conventional Uranium Mills and Heap Leach Facilities.” Pursuant to the provisions of part 40 of Title 10 of the Code of Federal Regulations, (10 CFR), “Domestic Licensing of Source Material,” an NRC materials license is required to conduct uranium recovery activities by conventional mill or heap leach techniques. Applicants for a new license and operators seeking an amendment or renewal of an existing license are required to provide detailed information on the facilities, equipment, and procedures to be used in the proposed activities. This information is used by the NRC staff to determine whether the proposed activities will be protective of public health and safety and the environment. Each section in draft NUREG-2126 provides guidance on what information is to be reviewed, the basis for the review, how the NRC staff review is to be accomplished, what the staff will find acceptable in a demonstration of compliance with applicable regulations, and the evaluation criteria for determining compliance with the applicable regulations. Draft NUREG-2126 is intended to improve the understanding of the NRC staff's review process by interested members of the public and the uranium recovery industry. Any interested party may submit comments on draft NUREG-2126 for consideration by the NRC staff. The public comment period closed on March 18, 2015. The National Mining Association (NMA) submitted a letter on February 26, 2015 (ADAMS Accession No. ML15062A629), requesting a 90-day extension of the public comment period on this document. Additionally, the State of Utah submitted a letter on March 16, 2015 requesting a 60-day extension of the public comment period on this document (ADAMS Accession No. ML15082A286). The Commission may grant, in its discretion, the additional reasonable opportunity for the submission of comments. In the present case, as the request for an extension from NMA points out, there are two notable current Federal Register notices on this general subject matter that have been noticed for public comment, including the present document, as well as the Environmental Protection Agency's (EPA) proposed 40 CFR part 192 rulemaking. The State of Utah cites its current workload and role in regulating the only operating conventional uranium mill in the United States as reasons for extending the comment period. As such, these factors justify the Commission granting additional reasonable opportunity for the submission of comments. The NRC has decided to reopen the public comment period on this document until June 18, 2015, to allow more time for members of the public to develop and submit their comments.

Dated at Rockville, Maryland, this 8th day of April 2015.
For the Nuclear Regulatory Commission.
Andrew Persinko,
Deputy Director, Division of Decommissioning, Uranium Recovery and Waste Programs, Office of Nuclear Material Safety and Safeguards.

[FR Doc. 2015-08797 Filed 4-15-15; 8:45 am]

BILLING CODE 7590-01-P